DEPARTMENT OF ENERGY

Federal Energy Regulatory Commission

[Project No. 516]

South Carolina Electric and Gas Co.; Notice of Public Information Meetings on the Saluda Project No. 516

May 16, 2000.

South Carolina Electric & Gas Company's Saluda Project's license expires in August 2007. The hydropower project and its reservoir, Lake Murray, are located in Saluda, Lexington, Newberry and Richland Counties, South Carolina. The Federal Energy Regulatory Commission (Commission) will hold two public information meetings to familiarize the public with the Commission's hydropower licensing program. Commission staff will give an overview of the Commission and its licensing procedures. There will be an opportunity for questions and answers.

Interested persons are invited to attend either or both meetings scheduled as follows:

Tuesday, June 20, 2000

2 to 4 p.m. (afternoon session)

6:30 to 8:30 p.m. (evening session)

Auditorium, Irmo Elementary School, 7401 Gibbes Street, Irmo, SC 29063; (803) 732-8278.

Please direct any questions regarding these meetings to either Jack Hannula, Commission Licensing Team Leader, 888 First Street NE, Washington, DC 20426; (202) 219-0116; or Charlie Compton, Lexington County Planning and Development, (803) 359-8121.

David P. Boergers,
Secretary.

[FR Doc. 00-12715 Filed 5-19-00; 8:45 am]

BILLING CODE 6717-01-M